DEPARTMENT OF TRANSPORTATION

Federal Aviation Administration

14 CFR Part 93

[Docket No. FAA-2006-25709; Amendment No. 93-87]

RIN 2120-AI70

Congestion Management Rule for LaGuardia Airport; Correction

AGENCY: Federal Aviation Administration (FAA), DOT.

ACTION: Final rule; correcting amendment.

SUMMARY: The FAA is correcting a final rule published in the October 10, 2008, Federal Register. The final rule addressed congestion at New York's LaGuardia Airport (LaGuardia). The original rule incorrectly identified the date by which limited slots will revert to the FAA for auction. This rule corrects the date.

DATES: The final rule published on October 10, 2008 (73 FR 60574), and this correction will become effective on December 9, 2008.

FOR FURTHER INFORMATION CONTACT: Rebecca MacPherson, FAA Office of the Chief Counsel, 800 Independence Ave., SW., Washington, DC 20591; telephone (202) 267-3073; e-mail rebecca.macpherson@faa.gov.

SUPPLEMENTARY INFORMATION:

Background

On October 10, 2008 (73 FR 60574), the FAA published a final rule that will grandfather most of the existing operations at the LaGuardia airport. However, carriers will be required, for the first time, to purchase collectively approximately nine percent of the slots at the airport. There are no carve-outs or special provisions for new entrants or limited incumbents. The rule will improve the efficiency of the National Airspace System by forcing a market-based mechanism for establishing the value of slots. Under prevailing economic theory, once the true value of slots is assessed, carriers will make financial business decisions that would maximize the slots' use.

Correction

In the final rule, the FAA intended the initial reversion of slots for auction to take effect 30 days after the final rule's effective date, which would be January 8, 2009. This was the time period referenced in the final rule as approved by the Office of Management and Budget. The January 13, 2009 date published in the Federal Register reflects an incorrect time period of 35 days following the final rule effective date.

At present, the FAA intends to auction the initial slate of slots on or about January 12, 2009. While the slots revert to the FAA under the rule on January 8, 2009, the FAA is not required to conduct the auction on that date, and no carrier will lose the ability to operate any slot that meets the usage requirements of the LaGuardia Order before March 8, 2009. Accordingly, this correction notice will have no practical impact on carriers operating at the airport.

Correction

In final rule FR Doc. E8-24008 published on October 10, 2008 (73 FR 65074), make the following correction.

§ 93.39 [Corrected]

On page 60599, in the third column, in § 93.39, remove the date “January 13, 2009” and add in its place the date “January 8, 2009”.

Issued in Washington, DC, on November 3, 2008.
Pamela Hamilton-Powell,
Director, Office of Rulemaking.

[FR Doc. E8-26568 Filed 11-7-08; 8:45 am]

BILLING CODE 4910-13-P